DEPARTMENT OF AGRICULTURE

Forest Service

Notice of Delegation of Authority From the Regional Forester, Pacific Southwest Region, to Forest Supervisor, Eldorado National Forest, for the El Dorado County Rubicon Trail Forest Road and Trail Act Easement

AGENCY: Forest Service, USDA.

ACTION: Notice.

SUMMARY: The Regional Forester, Pacific Southwest Region, hereby delegates to the Forest Supervisor, Eldorado National Forest, authority to grant a Forest Road and Trail Act easement to El Dorado County for the Rubicon Trail.

DATES: April 19, 2012.

ADDRESSES: USDA Forest Service, Pacific Southwest Region, 1323 Club Drive, Vallejo, CA 94592.

FOR FURTHER INFORMATION CONTACT: Ramiro Villalvazo, Director, Public Services, (707) 562-8856.

Randy Moore,
Regional Forester.

[FR Doc. 2012-9945 Filed 4-24-12; 8:45 am]

BILLING CODE M